DEPARTMENT OF THE INTERIOR

Minerals Management Service

Outer Continental Shelf (OCS), Central and Western Gulf of Mexico, Oil and Gas Lease Sales for Years 2007-2012

AGENCY: Minerals Management Service (MMS), Interior.

ACTION: Call for information and nominations.

SUMMARY: This Call for Information and Nominations (hereinafter referred to as “Call”) is the initial step in a single multisale process covering all lease sales in the Central and Western Gulf of Mexico (GOM) planning areas included in the draft proposed 2007-2012 OCS Oil and Gas Leasing Program (see Federal Register, February 10, 2006, pages 7064-7068.) Eleven lease sales are specifically covered by this Call: six in the Central GOM and five in the Western GOM. The new configuration of the Central and Western GOM planning areas was announced in the draft proposed 2007-2012 OCS Oil and Gas Leasing Program. The Central GOM planning area related to this Call includes portions of areas previously included in the Eastern and Western GOM planning areas. Simultaneously with this Call, MMS is preparing a multisale Environmental Impact Statement (EIS) covering the same eleven sales in the Central and Western GOM. For each of the eleven individual lease sales associated with this Call, the MMS will comply with the National Environmental Policy Act (NEPA), the Outer Continental Shelf Lands Act (OCSLA), and the Coastal Zone Management Act.

DATES: Nominations and comments must be received no later than 30 days following publication of this document in the Federal Register at the address specified below.

FOR FURTHER INFORMATION CONTACT: For information on this Call, please contact Ms. Jane Burrell Johnson, Minerals Management Service, Gulf of Mexico OCS Region, 1201 Elmwood Park Boulevard, New Orleans, Louisiana 70123-2394, telephone (504) 736-2811.

SUPPLEMENTARY INFORMATION: This Call is the fifth issuance of a Gulf of Mexico OCS Region multisale Call. In 1996, the MMS implemented two multisale Call processes for lease sales in the Central and Western GOM, respectively, in association with the 1997-2002 OCS Oil and Gas Leasing Program. In relation to the 2002-2007 OCS Oil and Gas Leasing Program, MMS implemented one multisale Call process for Central and Western GOM lease sales and one multisale Call process for Eastern GOM lease sales. MMS is now issuing one multisale Call for all GOM lease sales in the draft proposed 2007-2012 OCS Oil and Gas Leasing Program.

Call for Information and Nominations

1. Authority

This Call is published pursuant to the OCSLA as amended (43 U.S.C. 1331-1356 (1995)), and the regulations issued thereunder (30 CFR part 256).

2. Purpose of Call

The purpose of the Call is to gather information for the following proposed OCS Lease Sales in the Central and Western GOM:

Lease sale, OCS planning area | Sale year
Sale 204, Western GOM | 2007
Sale 205, Central GOM (portion of planning area) | 2007
Sale 206, Central GOM | 2008
Sale 207, Western GOM | 2008
Sale 208, Central GOM | 2009
Sale 210, Western GOM | 2009
Sale 213, Central GOM | 2010
Sale 215, Western GOM | 2010
Sale 216, Central GOM | 2011
Sale 218, Western GOM | 2011
Sale 222, Central GOM | 2012

Information and nominations on oil and gas leasing, exploration, development and production within the Central and Western GOM are sought from all interested parties. This early planning and consultation step is important for ensuring that all interests and concerns are communicated to the Department of the Interior for future decisions in the leasing process pursuant to the OCSLA and regulations at 30 CFR part 256.

Responses are requested regarding proposed sales in both the Central and Western GOM planning areas. Twenty-three years of experience with annual leasing on an areawide basis has shown that the lease sale proposals in the Central and Western GOM are very similar from year to year. This makes possible the use of a multisale process to address decisions for all eleven lease sales in those areas within the draft proposed program for both the Central and Western GOM planning areas.

Pursuant to section 18 of the OCS Lands Act, 43 U.S.C. 1344, the Secretary of the Interior still is in the process of developing the Five-Year Program for 2007-2012. This Call for Information and Nominations should not be construed as any pre-judgment by the Secretary as to any area to be made available for leasing under the 2007-2012 Five-Year Program.

This Call also does not indicate a preliminary decision to lease in the areas described below. Final delineation of each area for possible leasing will be made at a later date and in compliance with applicable laws including all requirements of the NEPA and OCSLA. Established departmental procedures will be employed.

3. Description of Areas

The general areas of this Call cover the entire Central and Western GOM planning areas, except for those exclusions listed below in Item 4, Areas Excluded from this Call.

The Central GOM planning area is bounded on the north by the Federal-State boundary offshore Louisiana, Mississippi, and Alabama. The eastern boundary of the Central GOM begins at the offshore boundary between Alabama and Florida and proceeds southeasterly to 26.19 degrees North latitude, thence southwesterly to 25.6 degrees North latitude. The western boundary of the Central GOM begins at the offshore boundary between Texas and Louisiana and proceeds southeasterly to 28.43 degrees North latitude, thence south southwesterly to 27.49 degrees North latitude, thence south southeasterly to 25.80 degrees North latitude. The Central GOM is bounded on the south by the continental shelf boundary with Mexico as established by the “Treaty Between The Government of The United States of America and The Government of The United Mexican States on The Delimitation of The Continental Shelf in The Western Gulf of Mexico Beyond 200 Nautical Miles” which took effect in January 2001, and by the limit of the U.S. Exclusive Economic Zone in the area east of the continental shelf boundary with Mexico. The Central GOM planning area available for nominations and comments at this time consists of approximately 66.3 million acres, of which approximately 34.8 million acres are currently unleased.

The Western GOM planning area is bounded on the west and north by the Federal/State boundary offshore Texas. The eastern boundary begins at the offshore boundary between Texas and Louisiana and proceeds southeasterly to 28.43 degrees North latitude, thence south southwesterly to 27.49 degrees North latitude, thence south southeasterly to 25.80 degrees North latitude. The Western GOM is bounded on the south by the maritime boundary with Mexico as established by the “Treaty Between The Government of The United States of America and The Government of The United Mexican States on The Delimitation of The Continental Shelf in The Western Gulf of Mexico Beyond 200 Nautical Miles” which took effect in January 2001. The Western GOM planning area available for nominations and comments at this time consists of approximately 28.7 million acres, of which approximately 17.8 million acres are currently unleased.

A standard Call for Information Map depicting the Central and Western GOM planning areas and Central GOM Sale 205 program area on a block-by-block basis is available without charge from: Minerals Management Service, Public Information Unit (MS 5034), 1201 Elmwood Park Boulevard, New Orleans, Louisiana 70123-2394, or telephone: 1-800-200-GULF. The map is also available via the MMS Web site at http://www.mms.gov.

4. Areas Excluded From This Call

A. The entire Central GOM planning area will be considered for possible leasing except:

1. Blocks that were previously included within the Eastern GOM planning area and are within 100 miles of the Florida coast;

2. Blocks that were previously included within the Eastern GOM planning area and are under an existing Presidential withdrawal through the year 2012 as well as subject to annual congressional moratoria;

3. Blocks that are beyond the United States Exclusive Economic Zone in the area known as the northern portion of the Eastern Gap; and

4. Whole and partial blocks that lie within the 1.4 nautical mile buffer zone north of the continental shelf boundary between the United States and Mexico.

B. The entire Western GOM planning area will be considered for possible leasing except:

1. Whole and partial blocks within the boundary of the Flower Garden Banks National Marine Sanctuary; and

2. Whole and partial blocks that lie within the 1.4 nautical mile buffer zone north of the continental shelf boundary between the United States and Mexico.

5. Instructions on Call

Indications of interest and comments must be received no later than 30 days following publication of this document in the Federal Register in envelopes labeled “Nominations for Proposed 2007—2012 Lease Sales in the Central and Western Gulf of Mexico” or “Comments on the Call for Information and Nominations for Proposed 2007—2012 Lease Sales in the Central and Western Gulf of Mexico.” The standard Call for Information Map and indications of interest and/or comments must be submitted to the Gulf of Mexico Region's Leasing Activities Section (Attention: Ms. Jane Burrell Johnson) at the previously noted address.

The standard Call for Information Map delineates the Call area, all of which has been identified by the MMS as having potential for the discovery of accumulations of oil and gas. Respondents are requested to indicate interest in and comment on any or all of the Federal acreage within the boundaries of the Call area that they wish to have included in each of the proposed lease sales in the Central and Western GOM.

Although individual indications of interest are considered to be privileged and proprietary information, the names of persons or entities indicating interest or submitting comments will be of public record. Those indicating such interest are required to do so on the standard Call for Information Map by outlining the areas of interest along block lines.

Respondents should rank areas in which they have expressed interest according to priority of their interest (e.g., priority 1 [high], 2 [medium], or 3 [low]). Respondents are encouraged to be specific in indicating blocks by priority because blanket nominations on large areas are not useful in the analysis of industry interest. Areas where interest has been indicated but on which respondents have not indicated priorities will be considered priority 3 (low).

Respondents may also submit a detailed list of blocks nominated by Official Protraction Diagram and Leasing Map designations to ensure correct interpretation of their nominations. Official Protraction Diagrams and Leasing Maps can be purchased from the Public Information Unit referred to above.

Comments are sought from all interested parties about particular geological, environmental (including natural disasters), biological, archaeological and socioeconomic conditions or conflicts, or other information that might bear upon the potential leasing and development of particular areas. Comments are also sought on possible conflicts between future OCS oil and gas activities that may result from the proposed sales and State Coastal Management Programs (CMP's). If possible, these comments should identify specific CMP policies of concern, the nature of the conflict foreseen, and steps that the MMS could take to avoid or mitigate the potential conflict. Comments may be in terms of broad areas or restricted to particular blocks of concern. Those submitting comments are requested to list block numbers or outline the subject area on the standard Call for Information Map.

6. Use of Information From Call

Information submitted in response to this Call will be used for several purposes. First, responses will be used to identify the areas of potential for oil and gas development and their priority of interest. Second, comments on possible environmental effects and potential use conflicts will be used in the analysis of environmental conditions in and near the Call area. The areas nominated for inclusion in the proposed sales and their respective rankings in conjunction with comments on environmental and other use conflicts will be used to make a preliminary determination of the potential advantages and disadvantages of oil and gas exploration and development to the region and the Nation. A third purpose for this Call is to use the comments collected in the scoping process for the EIS and to develop proposed actions and alternatives. Fourth, comments may be used in developing lease terms and conditions to ensure safe offshore operations. And, fifth, comments may be used to assess potential conflicts between offshore gas and oil activities and a State CMP.

7. Existing Information

The MMS routinely assesses the status of information acquisition efforts and the quality of the information base for potential decisions on tentatively scheduled lease sales. As a result of this continually ongoing assessment, we have determined that the status of the existing data available for planning, analysis, and decision-making is adequate and extensive.

An extensive environmental studies program has been underway in the GOM since 1973. The emphasis, including continuing studies, has been on environmental characterization of biologically sensitive habitats, physical oceanography, ocean-circulation modeling, and ecological effects of oil and gas activities. In response to impacts from Hurricanes Katrina and Rita, the MMS is currently funding studies regarding hurricane risks to onshore structures and their surrounding communities and environment. Socioeconomic profiles of communities with a high concentration of OCS-related activity will assess the social and environmental impacts of the 2005 hurricane season. These studies also evaluate the effects of hurricane-related employment shifts on onshore labor and coastal communities. In addition, a number of studies were recently awarded to determine the impact of Hurricane Ivan on the offshore oil and gas structures of the Gulf of Mexico. These studies were designed to analyze and assess the consequential damage to structures and pipelines, determine the effectiveness of current design standards and pollution-prevention systems, and develop recommendations for potential changes to industry standards and MMS regulations, if needed. Results of these recently awarded studies are also applicable to the impacts of Hurricanes Katrina and Rita and future hurricanes.

A complete listing of available study reports, and information for ordering copies, can be obtained from the Public Information Unit referenced above. The reports may also be ordered, for a fee, from the U.S. Department of Commerce, National Technical Information Service, 5285 Port Royal Road, Springfield, Virginia 22161, or telephone (703) 605-6000 or (800) 553-6847. In addition, a program status report for continuing studies in this area can be obtained from the Chief, Environmental Sciences Section (MS 5430), Minerals Management Service, Gulf of Mexico OCS Region, 1201 Elmwood Park Boulevard, New Orleans, Louisiana 70123-2394, or telephone (504) 736-2752, or via the MMS Web site at http://www.gomr.mms.gov/homepg/regulate/environ/studiesprogram.html.

8. Tentative Schedule

Milestones for Multisale EIS for Proposed 2007-2012 Central and Western GOM Sales
Notice of Intent (NOI) to Prepare an EIS | March/2006.
Call for Information and Nominations | April/2006.
Comments received on NOI | April/2006.
Comments received on Call | May/2006.
Area Identification Decision | June/2006.
Draft EIS published | October/2006.
Public Hearings on Draft EIS | November/2006.
Final EIS | March/2007.

9. Sale Milestones

The following is a list of tentative milestone dates applicable to lease sales covered by this Call:

Sale-Specific Milestones for Proposed 2007-2012 Central and Western GOM Sales
Request for Information to Begin Lease Sale Specific Process | 12 months before each lease sale.
Environmental Review Completed | 4 to 7 months before each lease.
Proposed Notice and Coastal Zone Management Consistency Determination | 4 months before each lease sale
Final Notice of Sale | 1 month before each lease sale.

Finally, the tentative months for GOM lease sales during the 2007-2012 period are:

Central GOM Sales (except for Sale 205): March of each year.

Central GOM Sale 205: Latter part of 2007.

Western GOM Sales: August of each year.

Dated: April 13, 2006.
R.M. “Johnnie” Burton,
Director, Minerals Management Service.

[FR Doc. E6-6453 Filed 4-27-06; 8:45 am]

BILLING CODE 4310-MR-P